COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by nonprofit agency employing persons who are blind or have other severe disabilities, and deletes products from the Procurement List previously furnished by such agencies.

DATES: Effective Date: 3/19/2017.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Additions

On 1/13/2017 (82 FR 4315-4316), the Committee for Purchase From People Who Are Blind or Severely Disabled published notice of proposed additions to the Procurement List.

After consideration of the material presented to it concerning capability of qualified nonprofit agency to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s):

7510-00-NIB-0823—Tab, Self-Stick, Durable, 1″, Assorted Colors

7510-00-NIB-0824—Tabs, Self-Stick, Filing, Repositionable, 2″, Red/Yellow

7510-01-421-4751—Tabs, Self-Stick, Page Makers Repositionable, .5″ x 2″, Assorted Colors

Mandatory Source(s) of Supply: Association for the Blind and Visually Impaired—Goodwill Industries of Greater Rochester, Rochester, NY

Mandatory for: Total Government Requirement

Contracting Activity: General Services Administration, New York, NY

Distribution: A-List

Deletions

On 1/13/2017 (82 FR 4315-4316), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

8415-01-503-0761—Shirt, Cold Weather 100 Weight Fleece, Army, Coyote Brown, S

8415-01-503-0762—Shirt, Cold Weather 100 Weight Fleece, Army, Coyote Brown, M

8415-01-503-0763—Shirt, Cold Weather 100 Weight Fleece, Army, Coyote Brown, L

8415-01-503-0766—Shirt, Cold Weather 100 Weight Fleece, Army, Coyote Brown, XL

Mandatory Source(s) of Supply: Peckham Vocational Industries, Inc., Lansing, MI

Contracting Activity: Defense Logistics Agency Troop Support

NSN(s)—Product Name(s): 7530-01-578-9300—Label, File Folder, Recycled, Laser and Inkjet, Assorted Color Stripes, 15/16″ × 3 − 7/16″

Mandatory Source(s) of Supply: North Central Sight Services, Inc., Williamsport, PA

Contracting Activity: General Services Administration, New York, NY

NSN(s)—Product Name(s): 7510-01-519-4362—Binder, Round Ring, Clear Overlay, Pockets, Cinnamon, 1½″ Capacity, Letter Size

Mandatory Source(s) of Supply: South Texas Lighthouse for the Blind, Corpus Christi, TX

Contracting Activities: Department of Veterans Affairs, Strategic Acquisition Center General Services Administration, New York, NY

NSN(s)—Product Name(s): 6645-01-467-8481—Clock, Wall, Black Custom Logo, 28″ Diameter

Mandatory Source(s) of Supply: Chicago Lighthouse Industries, Chicago, IL

Contracting Activity: General Services Administration, New York, NY

NSN(s)—Product Name(s): 7520-01-094-4309—Tray, Desk, Plastic, Side Loading, Stackable, Legal, Black

Mandatory Source(s) of Supply: LC Industries, Inc., Durham, NC

Contracting Activity: General Services Administration, New York, NY

NSN(s)—Product Name(s): 7930-01-513-9967—Cleaner, General, Disinfectant, Aerosol, 18 oz.

Mandatory Source(s) of Supply: The Lighthouse for the Blind, St. Louis, MO

Contracting Activity: General Services Administration, Fort Worth, TX

Amy B. Jensen,
Director, Business Operations.

[FR Doc. 2017-03217 Filed 2-16-17; 8:45 am]

BILLING CODE 6353-01-P